TENNESSEE VALLEY AUTHORITY

Meetings; Sunshine Act

Agency Holding the Meeting: Tennessee Valley Authority (Meeting No. 08-03).

Time and Date: 2 p.m. CDT, May 19, 2008, The Marriott Shoals Hotel & Spa, 800 Cox Creek Parkway South, Florence, Alabama 35630.

Agenda

Old Business

Approval of minutes of April 3, 2008, Board Meeting.

1. Chairman's Report:

A. Governance Changes and Committee Assignments.

2. President's Report.

3. Report of the Operations, Environment, and Safety Committee:

A. Environmental Policy.

4. Report of the Ad Hoc Committee on Energy Efficiency, Demand Response, and Renewable Energy:

A. Energy Efficiency and Demand Response Guiding Principles;

B. Renewable and Clean Energy Guiding Principles.

5. Report of the Human Resources Committee.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: May 12, 2008.
Maureen H. Dunn,
General Counsel and Secretary.

[FR Doc. E8-10979 Filed 5-15-08; 8:45 am]

BILLING CODE 8120-08-P